DEPARTMENT OF DEFENSE

Office of the Secretary

Defense Advisory Committee on Military Personnel Testing; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Defense Advisory Committee on Military Personnel Testing (DACMPT) will take place.

DATES: Day 1—Open to the public Wednesday, August 16, 2023 from 8:30 a.m. to 5:30 p.m., Central Time. Day 2—Open to the public Thursday, August 17, 2023 from 8:30 a.m. to 12:30 p.m., Central Time.

ADDRESSES: Venue to-be-determined (TBD). Meeting details will be posted on: https://dacmpt.com.

FOR FURTHER INFORMATION CONTACT: Designated Federal Officer (DFO), Dr. Sofiya Velgach, (703) 697-9271 (Voice), 703 614-9272 (Facsimile), osd.pentagon.ousd-p-r.mbx.dacmpt@mail.mil (email). Mailing address is Designated Federal Officer, Accession Policy, Office of the Under Secretary of Defense for Personnel and Readiness, Room 3D1066, The Pentagon, Washington, DC 20301-4000. The most up-to-date changes to the meeting can be found on the website: https://dacmpt.com.

SUPPLEMENTARY INFORMATION: This meeting is being held under the provisions of chapter 10 of title 5, United States Code (U.S.C.) (commonly known as the “Federal Advisory Committee Act” or “FACA”); section 552b of title 5, U.S.C. (commonly known as the “Government in the Sunshine Act”); and 41 Code of Federal Regulations (CFR) 102-3.140 and 102-3.150.

Purpose of the Meeting: The purpose of the meetings is to provide an overview of the accession testing program, review progress on the test development efforts, and gather advice on current testing capabilities. Additional information can be found at https://dacmpt.com.

Agenda

Day 1, Wednesday, August 16, 2023

8:30 a.m.-8:45 a.m. Welcome and Opening Remarks, Dr. Sofiya Velgach, Office of the Assistant Secretary of Defense for Manpower and Reserve Affairs/Accession Policy (OASD(M&RA)/AP)

8:45 a.m.-9:15 a.m. Accession Policy Brief, Dr. Katherine Helland, OASD(M&RA)/AP

9:15 a.m.-10:00 a.m. Milestones Briefing, Dr. Mary Pommerich, Office of People Analytics/Defense Testing and Assessment Center (OPA/DTAC)

10:00 a.m.-10:15 a.m. Break

10:15 a.m.-11:15 a.m. Form Equating Methodology, TBD, Human Resources Research Organization (HumRRO)

11:15 a.m.-12:15 p.m. Item Development Process, TBD, HumRRO

a. Item Writing

b. Item Analysis

12:15 p.m.-1:45 p.m. Lunch

1:45 p.m.-2:45 p.m. Tailored Adaptive Personality Assessment System (TAPAS) Overview/Validity Framework Dr. Deirdre Knapp, HumRRO

2:45 p.m.-3:45 p.m. TAPAS Future Plans

a. Joint Enlistment Composite, Dr. Dan Putka, HumRRO

b. Compatibility Composite, Dr. Kevin Bradley, HumRRO

3:45 p.m.-4:00 p.m. Break

4:00 p.m.-4:30 p.m. Complex Reasoning, Dr. Mike Ingerick, HumRRO

4:30 p.m.-5:15 p.m. Computational Thinking, Dr. Kimberly Adams, HumRRO

5:15 p.m.-5:30 p.m. Public Comments

Day 2, Thursday, August 17, 2023

8:30 a.m.-9:00 a.m. High School Curriculum Study, TBD, HumRRO

9:00 a.m.-10:00 a.m. Non-Native English Speakers Analysis, TBD, HumRRO

10:00 a.m.-10:15 a.m. Break

10:15 a.m.-11:30 a.m. Armed Services Vocational Aptitude Battery (ASVAB) Career Exploration Program (CEP) Update/Demo, Dr. Irina Rader, OPA/DTAC

11:30 a.m.-12:00 p.m. Future Topics Dr. Mary Pommerich, OPA/DTAC

12:00 p.m.-12:15 p.m. Public Comments

12:15 p.m.-12:30 p.m. Closing Comments, Dr. Nancy Tippins, Chair

Abbreviations Key:

ASVAB—Armed Services Vocational Aptitude Battery

ASVAB CEP—ASVAB Career Exploration Program, student testing program provided at no cost to high schools nation-wide to help students develop career exploration skills and used by recruiters to identify potential applicants for enlistment HumRRO—Human Resources Research Organization

OASD(M&RA)/AP—Office of the Assistant Secretary of Defense for Manpower and Reserve Affairs/Accession Policy

OPA/DTAC—Office of People Analytics/Defense Testing and Assessment Center

TAPAS—Tailored Adaptive Personality Assessment System

Latest version of the agenda will be posted on https://dacmpt.com.

Meeting Accessibility: Pursuant to 5 U.S.C. 552b and 41 CFR 102-3.140 through 102-3.165, and the availability of space, this meeting is open to the public. Seating availability is based on first-come, first-served basis. All members of the public who wish to attend the public meeting must contact the DFO no later than 12:00 p.m. on Monday, August 7, 2023, as listed in the FOR FURTHER INFORMATION CONTACT section.

Written Statements: Pursuant to 41 CFR 102-3.140 and 3.150 and section 10(a)(3) of FACA, interested persons may submit written statements to the DACMPT at any time about its approved agenda or at any time on the DACMPT's mission. Written statements should be submitted to the DACMPT's DFO at the address or facsimile number listed in the FOR FURTHER INFORMATION CONTACT section. If statements pertain to a specific topic being discussed at the planned meeting, then these statements must be submitted no later than five (5) business days prior to the meeting in question. Written statements received after this date may not be provided to, or not considered by the DACMPT until its next meeting. The DFO will review all timely submitted written statements and provide copies to all the DACMPT members before the meeting that is the subject of this notice. Please note that since the DACMPT operates under the provisions of the FACA, all submitted comments and public presentations will be treated as public documents and will be made available for public inspection. Opportunity for public comments will be provided at the end of each day. Public comments will be limited to 5 minutes per person, as time allows.

Dated: June 16, 2023.
Aaron T. Siegel,
Alternate OSD Federal Register Liaison Officer, Department of Defense.

[FR Doc. 2023-13285 Filed 6-21-23; 8:45 am]

BILLING CODE 5001-06-P